ENVIRONMENTAL PROTECTION AGENCY

[FRL-9919-90-OEI; EPA-HQ-OEI-2014-0820]

Notification of Deletion of System of Records: Confidential Business Information Tracking System, EPA-20

AGENCY: Environmental Protection Agency.

ACTION: Notice.

SUMMARY: The Environmental Protection Agency (EPA) is deleting the system of records for the Confidential Business Information Tracking System (EPA-20) published in the Federal Register on April 7, 2009, from its inventory of Privacy Act Systems. The system is no longer active.

DATES: This notice is effective on November 28, 2014.

FOR FURTHER INFORMATION CONTACT: Chandler Sirmons, (202) 564-1138.

SUPPLEMENTARY INFORMATION:

General Information

The Confidential Business Information Tracking System (CBITS) was created to track confidential information that was available to Confidential Business Information (CBI) cleared federal and contractor personnel and other government staff members on a need to know basis. CBITS was decommissioned on December 31, 2013. The system has since been replaced by the Confidential Information System (CIS) that processes, tracks and stores Toxic Substances Control Act (TSCA) confidential information. CIS does not contain or store any personally identifiable information (PII).

How can I get copies of this document and other related information?

EPA has established a docket for this action under Docket ID No. [EPA-HQ-OEI-2014-0820]. Copies of the available docket materials are available at www.regulations.gov or in hard copy at the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744. The telephone number for the Office of Environmental Information (OEI) Docket is (202) 566-1752.

How can I get electronic access to this document?

You may access this Federal Register document electronically under the “Federal Register” link on www.regulations.gov.

Dated: November 18, 2014.
Renee P. Wynn,
Acting Assistant Administrator, and Acting Chief Information Officer.

[FR Doc. 2014-28161 Filed 11-26-14; 8:45 am]

BILLING CODE 6560-50-P